DEPARTMENT OF JUSTICE

Notice of Lodging of a Consent Decree Under the Comprehensive Environmental Response, Compensation and Liability Act

Under 28 CFR 50.7 and 42 U.S.C. 9622(i), notice is hereby given that on October 2, 2003, a proposed Consent Decree in United States v. Metropolitan St. Louis Sewer District, et al., Civil Action No. 4: 03CV01625 ERW lodged with the United States District Court for the Eastern District of Missouri.

In this action the United States sought response costs relating to response actions by the Environmental Protection Agency (“EPA”) at the Great Lakes Superfund Site in St. Louis, MO. The Site is a former drum reclamation facility contaminated primarily with lead and polychlorinated biphenyls (“PCBs”). The settling defendant, the Metropolitan St. Louis Sewer District (“MSD”) owns a portion of the Site property but did not participate in the disposal of hazardous substances on the property. In the proposed consent decree MSD has agreed to reimburse EPA $230,000 in past response costs and grant access and institutional controls on its property.

The Department of Justice will receive for a period of thirty (30) days from the date of this publication comments relating to the Consent Decree. Comments should be addressed to the Assistant Attorney General, Environment and Natural Resources Division, PO Box 7611, U.S. Department of Justice, Washington, DC 20044-7611, and should refer to U.S. v. Metropolitan St. Louis Sewer District Consent Decree, D.J. Ref. 90-11-3-07280/3.

The Consent Decree may be examined at the Office of the United States Attorney, Eastern District of Missouri, 111 S. 10th Street, Room 20.333, St. Louis, MO, 63102, (314) 539-2200 and at U.S. EPA Region VII, 901 N. 5th Street, Kansas City, KS 66101, (913) 551-7471. During the public comment period, the Consent Decree may also be examined on the following Department of Justice Web site, http://www.usdoj.gov/enrd/open.html. A copy of the Consent Decree may also be obtained by mail from the Consent Decree Library, PO Box 7611, U.S. Department of Justice, Washington, DC 20044-7611 or by faxing or e-mailing a request to Tonia Fleetwood (tonia.fleetwood@usdoj.gov), fax No. (202) 514-0097, phone confirmation number (202) 514-1547. In requesting a copy from the Consent Decree Library, please enclose a check in the amount of $7.25 (25 cents per page reproduction cost) payable to the U.S. Treasury.

Robert E. Maher, Jr.,
Assistant Chief, Environmental Enforcement Section, Environment and Natural Resources Division.

[FR Doc. 03-28925 Filed 11-18-03; 8:45 am]

BILLING CODE 4410-15-M